DEPARTMENT OF DEFENSE

Department of the Army; Corps of Engineers

Notice of Availability of the Draft Environmental Impact Statement for the Installation of a Terminal Groin Structure at the Western End of South Beach, Bald Head Island, Adjacent to the Federal Wilmington Harbor Channel of the Cape Fear River (Brunswick County, NC), and Re-Scheduling of the Public Hearing

AGENCY: Department of the Army, U.S. Army Corps of Engineers, DoD.

ACTION: Notice of availability.

SUMMARY: The U.S. Army Corps of Engineers (USACE), Wilmington District, Wilmington Regulatory Field Office has received a request for Department of the Army authorization, pursuant to Section 404 of the Clean Water Act and Section 10 of the Rivers and Harbor Act, from the Village of Bald Head Island (VBHI) to develop and implement a shoreline protection plan that includes the installation of a terminal groin structure on the east side of the Wilmington Harbor Baldhead Shoal Entrance Channel (a federally-maintained navigation channel of the Cape Fear River) at the “Point” of Bald Head Island. The structure will be designed to function in concert with Federal beach disposal operations associated with the Wilmington Harbor navigation project. This is a supplement to the notice published in the Federal Register (79 FR 1843) on January 10, 2014 and a revision to the date of the public hearing and an extension of the comment period.

DATES: Due to inclement weather, the public hearing that was scheduled for February 12 was cancelled and re-scheduled for March 4, 2014. Written comments on the DEIS will be received until March 17, 2014.

ADDRESSES: Copies of comments and questions regarding scoping of the DEIS may be submitted to: U.S. Army Corps of Engineers (Corps), Wilmington District, Regulatory Division. ATTN: File Number SAW-2012-00040, 69 Darlington Avenue, Wilmington, NC 28403.

FOR FURTHER INFORMATION CONTACT: Questions about the proposed action and DEIS can be directed to Mr. Ronnie Smith, Wilmington Regulatory Field Office, telephone: (910) 251-4829. Additional description of the VBHI proposal can be found at the following link, http://www.saw.usace.army.mil/Missions/RegulatoryPermitProgram/MajorProjects, under the VBHI Terminal Groin Project.

SUPPLEMENTARY INFORMATION: Please reference the Notice of Availability that was filed in the Federal Register (79 FR 1843) on January 10, 2014 for project information, including alternatives.

The DEIS has been published and circulated, and a public hearing will be held March 4, 2014 at the International Longshoreman's Association Center, located at 211 West 10th Street in Southport, Brunswick County, North Carolina at 6 p.m.

Dated: February 18, 2014.
Scott McLendon,
Chief, Regulatory Division.

[FR Doc. 2014-04286 Filed 2-27-14; 8:45 am]

BILLING CODE 3720-58-P